Proclamation 9355 of October 28, 2015

National Alzheimer's Disease Awareness Month, 2015

By the President of the United States of America

A Proclamation

Each year, people with Alzheimer's disease experience devastating physical and emotional challenges, as the abilities to remember, learn, and think worsen over time—and their loved ones face challenges right alongside them. Although Alzheimer's is the most common form of dementia, it is often misunderstood, and misperceptions about the disease can isolate and stigmatize people with dementia and their families. This month, and every month, we stand with the more than 5 million people in the United States who live with Alzheimer's and with the caregivers who help them age with dignity.

The Federal Government is the leading funder of Alzheimer's research, and together with the scientific community, patient advocates, and advocacy groups, we are supporting a broad portfolio of research as part of the National Plan to Address Alzheimer's Disease—which maps concrete goals toward the prevention and effective treatment of Alzheimer's by 2025. With the expansion and innovation of research initiatives, we are gaining new insight on how to delay, treat, and prevent this disease. We are also continuing to make investments in the Brain Research through Advancing Innovative Neurotechnologies (BRAIN) Initiative, which will advance our understanding of the most intricate aspects of the human mind to address diseases that affect the brain. And earlier this year, I announced a new Precision Medicine Initiative, an effort aimed at bringing us closer to a cure for diseases like Alzheimer's by accelerating biomedical discoveries and providing clinicians with new tools, knowledge, and therapies to select treatments that will work best for individual patients.

As some of the brightest minds in our Nation and across the world work toward finding a cure for Alzheimer's, we must also focus time and resources on finding better ways to support the family caregivers who selflessly give of themselves each day. Caregivers around America show incredible devotion to those they look after, and caring for a person with Alzheimer's can have profound effects on one's emotional, financial, and physical well-being. As they work to promote the health of others, their dedication and compassion remind us that we are all our brothers' and sisters' keepers, and we must show the same level of support for caregivers as they show their loved ones with dementia. To learn more about what the Federal Government is doing to support research and programs for families and caregivers, visit www.Alzheimers.gov.

This November, let us focus our Nation's attention on the challenges posed by Alzheimer's disease, which families across America courageously face every day. As we continue our work to eliminate Alzheimer's disease and forge a future free from it, let us lift up the lives of those living with it, and let us do all we can to honor those it has taken from us too soon.

NOW, THEREFORE, I, BARACK OBAMA, President of the United States of America, by virtue of the authority vested in me by the Constitution and the laws of the United States, do hereby proclaim November 2015 as National Alzheimer's Disease Awareness Month. I call upon the people of the United States to learn more about Alzheimer's disease and support the individuals living with this disease and their caregivers.

IN WITNESS WHEREOF, I have hereunto set my hand this twenty-eighth day of October, in the year of our Lord two thousand fifteen, and of the Independence of the United States of America the two hundred and fortieth.

[FR Doc. 2015-28036

Filed 10-30-15; 11:15 am]

Billing code 3295-F6-P